DEPARTMENT OF TRANSPORTATION

Office of the Secretary of Transportation

[FHWA Docket No. FHWA-2009-0123]

Notice of Funding Availability for Applications for Credit Assistance Under the Transportation Infrastructure Finance and Innovation Act (TIFIA) Program; Clarification of TIFIA Selection Criteria; and Request for Comments on Potential Implementation of Pilot Program To Accept Upfront Payments for the Entire Subsidy Cost of TIFIA Credit Assistance

AGENCY: Federal Highway Administration (FHWA), Federal Railroad Administration (FRA), Federal Transit Administration (FTA), Maritime Administration (MARAD), Office of the Secretary of Transportation (OST), U.S. Department of Transportation (DOT).

ACTION: Notice of extension of deadline and comment period.

SUMMARY: The FHWA is extending the deadline and comment period for a notice of funding availability (NOFA), which was published on December 3, 2009, at 74 FR 63497. The original comment period is set to close on December 31, 2009. The extension is based on concern expressed by DOT stakeholders that the December 31 closing date does not provide sufficient time for submission of the solicited Letter of Interest and a subsequent comprehensive response to the docket. The FHWA agrees that the deadline and the comment period should be extended. Therefore, the closing date for submission of Letters of Interest and comments is extended to March 1, 2010, which will provide others interested in commenting additional time to prepare the Letter of Interest, and submit responses to the docket.

DATES: Comments must be received on or before March 1, 2010.

ADDRESSES: Submit all Letters of Interest to the attention of Mr. Duane Callender via e-mail at: TIFIACredit@dot.gov. Submitters should receive a confirmation e-mail, but are advised to request a return receipt to confirm transmission. Only Letters of Interest received via e-mail, as provided above, shall be deemed properly filed.

Mail or hand deliver comments to the U.S. Department of Transportation, Dockets Management Facility, Room PL-401, 1200 New Jersey Avenue, SE., Washington, DC 20590 or fax comments to (202) 493-2251. Provide two copies of comments submitted by mail or courier. Alternatively, comments may be submitted via the Federal eRulemaking Portal at http://www.regulations.gov. All comments must include the docket number that appears in the heading of this document. All comments received will be available for examination and copying at the above address from 9 a.m. to 5 p.m., e.t., Monday through Friday, except Federal holidays. Those desiring notification of receipt of comments must include a self-addressed, stamped postcard or you may print the acknowledgment page that appears after submitting comments electronically. Anyone is able to search the electronic form of all comments received into any of our dockets by the name of the individual submitting the comment (or signing the comment, if submitted on behalf of an association, business, labor union, etc.). You may review DOT's complete Privacy Act Statement in the Federal Register published on April 11, 2000 (Volume 65, Number 70, Pages 19477-78).

FOR FURTHER INFORMATION CONTACT: For further information regarding this notice please contact Duane Callender via e-mail at TIFIACredit@dot.gov or via telephone at 202-366-9644. A TDD is available at 202-366-7687. Substantial information, including the TIFIA Program Guide and application materials, can be obtained from the TIFIA Web site: http://tifia.fhwa.dot.gov.

SUPPLEMENTARY INFORMATION:

Background

On December 3, 2009, at 74 FR 63497, the FHWA published in the Federal Register a notice of availability of funding for applications for credit assistance under the TIFIA Program.

In lieu of accepting applications on a first-come first-served basis, the NOFA established due dates for submitting letters of interest and applications to compete for available funding. Additionally, the NOFA provided expanded information on the TIFIA selection criteria and requests comments on a proposed pilot program for allowing TIFIA applicants to pay an upfront fee that will fully offset the Government's subsidy cost of making credit assistance available.

The original comment period for the NOFA closes on December 31, 2009. However, DOT stakeholders have expressed concern that this closing date does not provide sufficient time for submission of the solicited Letter of Interest and a subsequent comprehensive response to the docket. To allow time for interested parties to submit Letters of Interest and comprehensive comments, the closing date is changed from December 31, 2009, to March 1, 2010.

Authority: 23 U.S.C. 601-609; 49 CFR 1.48(b)(6); 23 CFR Part 180; 49 CFR Part 80; 49 CFR Part 261; 49 CFR Part 640.

Issued on: December 29, 2009.
Victor M. Mendez,
Administrator.

[FR Doc. E9-31225 Filed 1-4-10; 8:45 am]

BILLING CODE 4910-9X-P